DEPARTMENT OF ENERGY

Federal Energy Regulatory Commission

Combined Notice of Filings 2

August 27, 2010.

Take notice that the Commission has received the following Natural Gas Pipeline Rate and Refund Report filings:

Docket Numbers: RP10-1072-001.

Applicants: Egan Hub Storage, LLC.

Description: Egan Hub Storage, LLC submits tariff filing per 154.205(b): Amendment to Contract 310527-R1 Filing to be effective 8/1/2010.

Filed Date: 08/23/2010.

Accession Number: 20100823-5062.

Comment Date: 5 p.m. Eastern Time on Tuesday, September 07, 2010.

Docket Numbers: RP10-1089-001.

Applicants: Cheniere Creole Trail Pipeline, L.P.

Description: Cheniere Creole Trail Pipeline, L.P. submits tariff filing per 154.203: Cheniere Creole Trail Pipeline Baseline Tariff to be effective 9/30/2010.

Filed Date: 08/23/2010.

Accession Number: 20100823-5124.

Comment Date: 5 p.m. Eastern Time on Tuesday, September 07, 2010.

Docket Numbers: RP10-978-001.

Applicants: Gulf South Pipeline Company, LP.

Description: Gulf South Pipeline Company, LP submits tariff filing per 154.203: Compliance Filing to be effective 8/18/2010.

Filed Date: 08/23/2010.

Accession Number: 20100823-5061.

Comment Date: 5 p.m. Eastern Time on Tuesday, September 07, 2010.

Docket Numbers: RP10-1087-001.

Applicants: Kern River Gas Transmission Company.

Description: Kern River Gas Transmission Company submits tariff filing per 154.203: Correction to Baseline to be effective 8/19/2010.

Filed Date: 08/24/2010.

Accession Number: 20100824-5153.

Comment Date: 5 p.m. Eastern Time on Tuesday, September 07, 2010.

Docket Numbers: RP10-651-001.

Applicants: Elba Express Company, L.L.C.

Description: Elba Express Company, L.L.C. submits its baseline errata filing to its FERC Gas Tariff, Second Revised Volume No 1, to be effective 4/28/2010.

Filed Date: 08/24/2010.

Accession Number: 20100824-5001.

Comment Date: 5 p.m. Eastern Time on Tuesday, September 07, 2010.

Docket Numbers: RP10-713-001.

Applicants: Enbridge Offshore Pipelines (UTOS) LLC.

Description: Enbridge Offshore Pipelines (UTOS) LLC submits tariff filing per 154.203: eTariff Baseline Resubmittal to be effective 6/5/2010.

Filed Date: 08/25/2010.

Accession Number: 20100825-5052.

Comment Date: 5 p.m. Eastern Time on Tuesday, September 07, 2010.

Docket Numbers: RP10-778-001.

Applicants: Stingray Pipeline Company, L.L.C.

Description: Stingray Pipeline Company, L.L.C. submits tariff filing per 154.203: eTariff Baseline Resubmittal to be effective 6/30/2010.

Filed Date: 08/25/2010.

Accession Number: 20100825-5059.

Comment Date: 5 p.m. Eastern Time on Tuesday, September 07, 2010

Docket Numbers: RP10-975-001.

Applicants: Northern Natural Gas Company.

Description: Northern Natural Gas Company submits Sub. Ninth Revised Sheet 154 et al of its FERC Gas Tariff, Fifth Revised Volume 1, to be effective 8/13/10.

Filed Date: 08/25/2010.

Accession Number: 20100825-0208.

Comment Date: 5 p.m. Eastern Time on Tuesday, September 07, 2010.

Docket Numbers: RP10-1035-001.

Applicants: Mississippi Hub, LLC.

Description: Mississippi Hub, LLC submits tariff filing per 154.203: Mississippi Hub FERC Gas Tariff Compliance Filing to be effective 8/26/2010.

Filed Date: 08/27/2010.

Accession Number: 20100827-5006.

Comment Date: 5 p.m. Eastern Time on Wednesday, September 08, 2010.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. 2010-22263 Filed 9-7-10; 8:45 am]

BILLING CODE 6717-01-P